DEPARTMENT OF THE INTERIOR

Fish and Wildlife Service

[FWS-R5-FHC-2012-N045; FXFR13340500000L4-123-FF05F24400]

Information Collection Request Sent to the Office of Management and Budget (OMB) for Approval; Horseshoe Crab Tagging Program

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on March 31, 2012. We may not conduct or sponsor and a person is not required to respond to a collection of information unless it displays a currently valid OMB control number. However, under OMB regulations, we may continue to conduct or sponsor this information collection while it is pending at OMB.

DATES: You must submit comments on or before April 11, 2012.

ADDRESSES: Send your comments and suggestions on this information collection to the Desk Officer for the Department of the Interior at OMB-OIRA at (202) 395-5806 (fax) or OIRA_DOCKET@OMB.eop.gov (email). Please provide a copy of your comments to the Service Information Collection Clearance Officer, U.S. Fish and Wildlife Service, MS 2042-PDM, 4401 North Fairfax Drive, Arlington, VA 22203 (mail), or INFOCOL@fws.gov (email). Please include “1018-0127” in the subject line of your comments.

FOR FURTHER INFORMATION CONTACT: To request additional information about this ICR, contact Hope Grey at INFOCOL@fws.gov (email) or 703-358-2482 (telephone). You may review the ICR online at http://www.reginfo.gov. Follow the instructions to review Department of the Interior collections under review by OMB.

SUPPLEMENTARY INFORMATION:

OMB Control Number: 1018-0127.

Title: Horseshoe Crab Tagging Program.

Service Form Number(s): FWS Forms 3-2310 and 3-2311.

Type of Request: Extension of currently approved collection.

Description of Respondents: Tagging agencies include Federal and State agencies, universities, and biomedical companies. Members of the general public provide recapture information.

Respondent's Obligation: Voluntary.

Frequency of Collection: On occasion. When horseshoe crabs are tagged and when horseshoe crabs are found or captured.

Activity | Number of annual respondents | Number of annual responses | Completion time per response | Annual burden hours
FWS Form 3-2310 | 950 | 2,250 | 5 minutes | 188
FWS Form 3-2311 | 18 | 18 | 95 hours * | 1,710
Totals | 968 | 2,268 |  | 1,898
* Average time required per response is dependent on the number of tags applied by an agency in 1 year. Agencies tag between 25 and 9,000 horseshoe crabs annually, taking between 2 to 5 minutes per crab to tag, record, and report data. Each agency determines the number of tags it will apply.

Abstract: Horseshoe crabs play a vital role commercially, biomedically, and ecologically along the Atlantic coast. Horseshoe crabs are commercially harvested and used as bait in eel and conch fisheries. Biomedical companies along the coast also collect and bleed horseshoe crabs at their facilities. Limulus Amoebocyte Lysate is derived from crab blood, which has no synthetic substitute, and is used by pharmaceutical companies to test sterility of products. Finally, migratory shorebirds also depend on the eggs of horseshoe crabs to refuel on their migrations from South America to the Arctic. One bird in particular, the red knot, feeds primarily on horseshoe crab eggs during its stopover. That bird is currently listed as a candidate for protection under the Endangered Species Act.

In 1998, the Atlantic States Marine Fisheries Commission (ASMFC), a management organization with representatives from each State on the Atlantic Coast, developed a horseshoe crab management plan. The ASMFC plan and its subsequent addenda established mandatory State-by-State harvest quotas, and created the 1,500-square-mile Carl N. Shuster, Jr., Horseshoe Crab Sanctuary off the mouth of Delaware Bay.

Although restrictive measures have been taken in recent years, populations are increasing slowly. Because horseshoe crabs do not breed until they are 9 years or older, it may take some time before the population measurably increases. Federal and State agencies, universities, and biomedical companies participate in a Horseshoe Crab Cooperative Tagging Program. The Maryland Fishery Resources Office, Fish and Wildlife Service, maintains the information that we collect under this program and uses it to evaluate migratory patterns, survival, and abundance of horseshoe crabs.

Agencies that tag and release the crabs complete FWS Form 3-2311 (Horseshoe Crab Tagging) and provide the Service with:

• Organization name.

• Contact person name.

• Tag number.

• Sex of crab.

• Prosomal width.

• Capture site, latitude, longitude, waterbody, State, and date.

Members of the public who recover tagged crabs provide the following information using FWS Form 3-2310 (Horseshoe Crab Recapture Report):

• Tag number.

• Whether or not tag was removed.

• Whether or not the tag was circular or square.

• Condition of crab.

• Date captured/found.

• Crab fate.

• Finder type.

• Capture method.

• Capture location.

• Reporter information.

• Comments.

If the public participant who reports the tagged crab requests information, we send data pertaining to the tagging program and tag and release information on the horseshoe crab that was found or captured.

Comments: On September 26, 2011, we published in the Federal Register (76 FR 59422) a notice of our intent to ask OMB to renew approval for this information collection. In that notice, we solicited comments for 60 days, ending on November 25, 2011. We received comments from 10 individuals/organizations.

Commenter 1 appreciated the opportunity to tag horseshoe crabs and suggested that public outreach is an important component of the program and that increased public outreach would be useful.

Commenter 2 said that the public outreach component has been very useful and the tagging program has benefited horseshoe crab management and increased public awareness of management issues.

Commenter 3 said that both the scientific merit and public outreach components of the program have been very useful. The tagging program has benefited horseshoe crab management and increased public awareness of management issues.

Commenter 4 discussed the scientific merit of the tagging program and said that it has been very useful. The tagging program has benefited horseshoe crab management and has had impacts on management of associated shorebird species whose population levels are of concern. The commenter had concerns on the effort of tag recoveries, and suggested that we provide higher incentives to commercial fishermen to report crab tags, increase efforts on spawning beaches to recover tags, record time searching for tags to determine catch-per-unit-effort, that online reporting can be done in a batch system, and that we increase efforts to collect tag data from commercial fishermen. While we recognize that all of these suggestions would make a stronger program with more significant scientific data, some come with substantial cost. At this time we do not have any additional funds to provide increased incentives to fishermen, increase tag recovery efforts on beaches (done by our cooperators at this time), or increase efforts to solicit tag data from commercial fishermen. Through our cooperators in the future, we can attempt to get an estimate of catch-per-unit-effort and we will discuss this issue with the Atlantic States Marine Fisheries Commission to determine if those data would be useful. We will also explore providing a batch-type data entry program on our Web site to report recaptured tags. We will explore collecting catch-per-unit-effort and online batch reporting in the future.

Commenter 5 was supportive of the information collection, and commented that the scientific data provided by the program has been very useful for horseshoe crab management. Information was collected efficiently and the burden estimates were accurate.

Commenter 6 opposed the use of horseshoe crabs by biomedical companies and proposed a ban on the use of horseshoe crabs for any purpose.

Commenter 7 said that the tagging program is not necessary and the data generated by the program is not useful. The commenter also opposed the commercial harvest of horseshoe crabs and the use of horseshoe crabs by biomedical companies. The commenter proposed a ban on the use of horseshoe crabs for any purpose.

Commenter 8 discussed the scientific merit of the tagging program and said that it has been very useful for horseshoe crab management purposes. The commenter suggested that the Fish and Wildlife Service increase efforts in resighting tagged crabs outside the Delaware Bay area. While we recognize that increasing effort for resighting tagged crabs would increase the quality of the scientific data, there is substantial cost associated with increasing that effort. At this time, we do not have any additional funds to increase tag recovery efforts on beaches (done by our cooperators at this time). We will encourage our cooperators to increase efforts in tag recovery outside the Delaware Bay area. The commenter also suggested we develop an application for smart phones in addition to the online reporting system that we currently offer. We will explore the development of an app for smart phones to provide another method for tag reporting.

Commenter 9 discussed the scientific merit of the tagging program and said that it has been very useful to horseshoe crab and shorebird management (whose population levels are of concern). The commenter suggested that we increase efforts on spawning beaches of Maryland and Virginia to recover tags, record time searching for tags to determine catch-per-unit-effort, and use formal models to determine survival of bled crabs from the Lysate industry. As with previous comments, we will encourage our cooperators to increase tag recovery efforts on the Maryland and Virginia beaches; however, without increased funding, we will not be able to increase tag recovery efforts without the assistance of cooperators. Some formal studies are being done by our cooperators using the Service tagging program to evaluate impacts of both tagging and of the Lysate bleeding programs. We will continue to support the tagging programs that are evaluating crab survival. The commenter also suggested that we should facilitate batch reporting of crabs on the phone and to encourage tag reporting by commercial fishermen. At this time we do not have any additional funds to provide increased incentives to fishermen, increase tag recovery efforts on beaches (done by our cooperators at this time), or increase efforts to solicit tag data from commercial fishermen. We will work with our cooperators to attempt to get better distribution of tag recovery efforts.

Commenter 10 provided comments similar in nature to Commenters 4 and 9.

We did not make any changes to our information collection requirements based on the above comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: March 6, 2012.
Tina A. Campbell,
Chief, Division of Policy and Directives Management, U.S. Fish and Wildlife Service.

[FR Doc. 2012-5879 Filed 3-9-12; 8:45 am]

BILLING CODE 4310-55-P